DEPARTMENT OF AGRICULTURE

Animal and Plant Health Inspection Service

[Docket No. 04-048-1]

Notice of Request for Emergency Approval of an Information Collection

Correction

In notice document E4-2344 beginning on page 56990 in the issue of Thursday, September 23, 2004 make the following correction:

On page 56990, in the first column, in the DATES section, in the second line “October 3, 2004 ” should read “October 4, 2004 ”.

[FR Doc. Z4-2344 Filed 9-24-04; 8:45 am]

BILLING CODE 1505-01-D

SECURITIES AND EXCHANGE COMMISSION

[Release No. 34-50355; File No. SR-Amex-2004-23]

Self-Regulatory Organizations; Order Granting Approval of Proposed Rule Change and Amendment No. 1 Thereto and Notice of Filing and Order Granting Accelerated Approval of Amendment Nos. 2 and 3 to the Proposed Rule Change by the American Stock Exchange LLC Relating to Generic Listing Standards for Trust Certificate Securities Linked to a Portfolio of Investment Grade Securities

Correction

In notice document E4-2245 beginning on page 56252 in the issue of Monday, September 20, 2004 make the following correction:

On page 56257, in the first column, in the first paragraph, in the final line, “October 11, 2004” should read “October 12, 2004.”

[FR Doc. Z4-2245 Filed 9-24-04; 8:45 am]

BILLING CODE 1505-01-D

DEPARTMENT OF TRANSPORTATION

Federal Motor Carrier Safety Administration

[Docket No. FMCSA-2003-15818]

Exemption To Allow Werner Enterprises, Inc. To Use Global Positioning System (GPS) Technology To Monitor and Record Drivers' Hours of Service

Correction

In notice document 04-21139 beginning on page 56474 in the issue of Tuesday, September 21, 2004, make the following correction:

On page 56474, in the first column, in the DATES section, in the second line, “September 21, 2004” should read “September 21, 2006”.

[FR Doc. C4-21139 Filed 9-24-04; 8:45 am]

BILLING CODE 1505-01-D